DEPARTMENT OF COMMERCE

National Oceanic and Atmospheric Administration

RIN 0648-XF917

Fisheries of the South Atlantic; South Atlantic Fishery Management Council; Public Meetings

AGENCY: National Marine Fisheries Service (NMFS), National Oceanic and Atmospheric Administration (NOAA), Commerce.

ACTION: Notice of meeting of the South Atlantic Fishery Management Council's Citizen Science Advisory Panel Projects/Topics Management; Finance & Infrastructure; Volunteers; Communication/Outreach/Education; and Data Management Action Teams.

SUMMARY: The South Atlantic Fishery Management Council (Council) will hold an all-hands meeting of its Citizen Science Advisory Panel Projects/Topics Management; Finance & Infrastructure; Volunteers; Communication/Outreach/Education; and Data Management Action Teams via webinar.

DATES: The Projects/Topics Management; Finance & Infrastructure; Volunteers; Communication/Outreach/Education; and Data Management Action Team meeting will be held on Wednesday, January 31, 2018 at 9 a.m. The meeting is scheduled to last approximately three hours. Additional Action Team webinar dates and times will publish in a subsequent issue in the Federal Register.

ADDRESSES: Meeting address: The meeting will be held via webinar and is open to members of the public. Webinar registration is required and registration links will be posted to the Citizen Science program page of the Council's website at www.safmc.net.

Council address: South Atlantic Fishery Management Council, 4055 Faber Place Drive, Suite 201, N Charleston, SC 29405.

FOR FURTHER INFORMATION CONTACT: Amber Von Harten, Citizen Science Program Manager, SAFMC; phone (843) 302-8433 or toll free (866) SAFMC-10; fax: (843) 769-4520; email: amber.vonharten@safmc.net.

SUPPLEMENTARY INFORMATION: The Council created a Citizen Science Advisory Panel Pool in June 2017. The Council appointed members of the Citizen Science Advisory Panel Pool to five Action Teams in the areas of Volunteers, Data Management, Projects/Topics Management, Finance, and Communication/Outreach/Education to develop program policies and operations for the Council's Citizen Science Program.

Each Action Team has been meeting since August 2017 to work on developing recommendations on program policies and operations to be reviewed by the Council's Citizen Science Committee. The January 31, 2018 meeting will bring all members of all five Action Teams together to review and discuss draft recommendations from each Action Team. Public comment will be accepted at the beginning of the meeting.

Items to be addressed during these meetings:

1. Overview and discussion of Action Team draft recommendations

2. Other Business

Special Accommodations

These meetings are physically accessible to people with disabilities. Requests for auxiliary aids should be directed to the council office (see ADDRESSES) 3 days prior to the meeting.

Note: The times and sequence specified in this agenda are subject to change.

Authority: 16 U.S.C. 1801 et seq.

Dated: January 8, 2018.
Tracey L. Thompson,
Acting Deputy Director, Office of Sustainable Fisheries, National Marine Fisheries Service.

[FR Doc. 2018-00372 Filed 1-10-18; 8:45 am]

BILLING CODE 3510-22-P